FEDERAL COMMUNICATIONS COMMISSION

47 CFR Part 64

[WC Docket No. 22-238; FCC 24-38; FR ID 214900]

Supporting Survivors of Domestic and Sexual Violence

AGENCY: Federal Communications Commission.

ACTION: Proposed rule.

SUMMARY: In this document, the Federal Communications Commission (“Commission”) seeks comment on additional action it can take to help survivors of domestic violence access safe and affordable connectivity, particularly in the context of connected car services which may be used to stalk, harass, and revictimize survivors of domestic violence.

DATES: Interested parties may file comments on or before May 23, 2024, and reply comments on or before June 24, 2024. Written comments on the Paperwork Reduction Act proposed information collection requirements must be submitted by the public, the Office of Management and Budget (OMB), and other interested parties on or before June 24, 2024. Written comments on the Initial Regulatory Flexibility Analysis (IRFA) in this document must have a separate and distinct heading designating them as responses to the IRFA and must be submitted by the public on or before May 23, 2024.

ADDRESSES: You may submit comments, identified by WC Docket No. 22-238, by any of the following methods:

• Electronic Filers: Comments may be filed electronically using the internet by accessing the ECFS: https://www.fcc.gov/ecfs/.

• Paper Filers: Parties who choose to file by paper must file an original and one copy of each filing.

Filings can be sent by hand or messenger delivery, by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Filing, Public Notice, 35 FCC Rcd 2788 (2020), https://www.fcc.gov/document/fcc-closes-headquarters-open-window-and-changes-hand-delivery-policy

People with Disabilities: To request materials in accessible formats for people with disabilities (braille, large print, electronic files, audio format), please send an email to fcc504@fcc.gov or call the Consumer & Governmental Affairs Bureau at 202-418-0530.

FOR FURTHER INFORMATION CONTACT: For further information on this proceeding, contact Thomas Hastings, Thomas.Hastings@fcc.gov, of the Wireless Telecommunications Bureau, Competition & Infrastructure Policy Division, (202) 418-1343. For additional information concerning the Paperwork Reduction Act proposed information requirements contained in this document, send an email to PRA@fcc.gov or contact Cathy Williams at (202) 418-2918.

SUPPLEMENTARY INFORMATION: This is a summary of the Commission's Further Notice of Proposed Rulemaking (FNPRM), in WC Docket No. 22-238; FCC 24-38, adopted April 3, 2024, and released on April 8, 2024. The full text of the document is available for download at https://docs.fcc.gov/public/attachments/FCC-24-38A1.pdf.

Regulatory Flexibility Act: The Regulatory Flexibility Act of 1980, as amended (RFA), requires that an agency prepare a regulatory flexibility analysis for notice-and-comment rulemakings, unless the agency certifies that “the rule will not, if promulgated, have a significant economic impact on a substantial number of small entities.” Accordingly, the Commission has prepared an Initial Regulatory Flexibility Analysis (IRFA) concerning the possible impact of the rule and policy changes contained in this Notice of Proposed Rulemaking. Written public comments are requested on the IRFA. Comments must be by the deadlines for comments on this Notice of Proposed Rulemaking indicated in the DATES section of this document and must have a separate and distinct heading designating them as responses to the IRFA and must be filed in WC Docket No. 22-238.

Paperwork Reduction Act: This document contains proposed modified information collection requirements. The Commission, as part of its continuing effort to reduce paperwork burdens, invites the general public and the Office of Management and Budget (OMB) to comment on the information collection requirements contained in this document, as required by the Paperwork Reduction Act of 1995, Public Law 104-13. If the Commission adopts any new or revised information collection requirements, the Commission will publish a notice in the Federal Register inviting the general public and the Office of Management and Budget to comment on the information collection requirements. In addition, pursuant to the Small Business Paperwork Relief Act of 2002, Public Law 107-198, see 44 U.S.C. 3506(c)(4), the Commission seeks specific comment on how it might further reduce the information collection burden for small business concerns with fewer than 25 employees.

Ex Parte Rules: This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda, or other filings in the proceeding, then the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with 47 CFR 1.1206(b). In proceedings governed by 47 CFR 1.49(f), or for which the Commission has made available a method of electronic filing, written ex parte presentations and memoranda summarizing oral ex parte presentations, and all attachments thereto, must be filed through the electronic comment filing system available for that proceeding and must be filed in their native format (e.g., .doc, .xml, .ppt, searchable .pdf). Participants in this proceeding should familiarize themselves with the Commission's ex parte rules.

Providing Accountability Through Transparency Act: The Providing Accountability Through Transparency Act, Public Law 118-9, requires each agency, in providing notice of a rulemaking, to post online a brief plain-language summary of the proposed rule. The required summary of this Notice of Proposed Rulemaking is available at https://www.fcc.gov/proposed-rulemakings.

Synopsis

I. Introduction

1. In this FNPRM, the Commission seeks comment on additional action we can take to help survivors of domestic violence access safe and affordable connectivity, particularly in the context of connected car services. Modern vehicles are frequently equipped with a suite of connectivity tools and features, such as hands-free communication, real-time location, and other connectivity services. While these services provide benefits to drivers and passengers when used as intended, news reports suggest that these services have also been used to stalk, harass, and revictimize survivors of domestic violence.

2. We seek comment on solutions to help ensure that domestic violence survivors need not choose between access to personal transportation or exposing themselves to threatening, stalking, or other harmful behavior by those who can access the car's data and connectivity. We seek comment on the types, as well as the frequency of use, of connected car services in the marketplace today. In addition, we ask whether changes to the Commission's rules implementing the Safe Connections Act (SCA) are needed to address the impact of connected car services on domestic violence survivors. Safe Connections Act of 2022, Public Law 117-223, 116 Stat. 2280 (Safe Connections Act or SCA). In November 2023, the Commission adopted a Report and Order implementing the Safe Connections Act. Supporting Survivors of Domestic and Sexual Violence et al., WC Docket No. 22-238, Report and Order, FCC 23-96 (Nov. 16, 2023) (SCA Report and Order). We also ask more broadly what steps connected car service providers can proactively take to protect survivors from being stalked, harassed, intimidated, or otherwise revictimized through the misuse of connected car services.

II. Background

3. Domestic violence and abusive relationships are a significant safety and public health issue that result in individual harm and societal costs that extend beyond the survivor. Domestic violence affects more than 12 million people every year, and an average of 24 people per minute are subject to physical violence or stalking by an intimate partner. Almost half of all women and men in the United States have experienced psychological aggression by an intimate partner in their lifetime (48.4% and 48.8%, respectively). The effects of domestic violence disproportionately impact women. In addition, domestic violence disproportionately impacts people of color, LGBTQ+ individuals, and other individuals who identify with historically marginalized demographics. Estimates of economic costs due to domestic violence are vast and encompass disruptions to education and work, among other aspects.

4. Safe Connections Act. In recognition of the harmful and lasting impact that domestic violence and related crimes have on survivors, Congress passed the SCA in November of 2022. In particular, Congress recognized the reality that survivors seeking to escape their abusers are often tethered to their abusers by technology—such as shared mobile service—and that these lingering connections present unique challenges for survivors seeking to maintain essential connectivity while distancing themselves from their abusers. In the SCA, Congress found that “perpetrators of violence and abuse . . . increasingly use technological and communications tools to exercise control over, monitor, and abuse their victims,” and that “[c]ommunications law can play a public interest role in the promotion of safety, life, and property” with respect to these types of violence and abuse. The SCA further found that “[s]afeguards within communications services can serve a role in preventing abuse and narrowing the digital divide experienced by survivors of abuse.” Congress, through the SCA, sought to ensure that survivors can separate from abusers without losing independent access to their mobile service plans. To further that objective, Congress directed the Commission to adopt rules to implement the protections established in the SCA for survivors of domestic violence.

5. SCA Report and Order. In November 2023, the Commission adopted the SCA Report and Order implementing the Commission's obligations under the SCA to help survivors of domestic violence and related crimes to separate service lines from accounts shared with their abusers, protect the privacy of calls made by survivors to domestic-violence hotlines, and support survivors suffering from financial hardship. The Commission defined key terms in the SCA, such as what constitutes a “covered provider” subject to the Commission's new rules. As noted in the SCA Report and Order, multi-line shared mobile service contracts present challenges for survivors of domestic violence who seek to maintain essential connectivity while also distancing themselves from their abuser, because the abuser may be an account holder and thus able to monitor the survivor's calls, text messages, and device location. In adopting rules implementing the SCA, the Commission recognized that it can be difficult for the survivor to separate their mobile service line from their abuser when the plan is shared with and controlled by the abuser.

6. Concerns of Misuse of Connected Car Applications by Abusers. Connected cars bring a myriad of benefits that can improve conditions for drivers, pedestrians, and motorists in general. These benefits include helping to locate a vehicle in a parking lot and connecting promptly with first responders in an emergency without a phone. These features typically require the car to have wireless connectivity and to create and share location data. However, when these data and connectivity are in the wrong hands, they may be used to harm a survivor in—or attempting to leave—an abusive relationship. Indeed, recent reports suggest that connected cars can be “weaponized” against survivors, especially when survivors co-own or share a car with an abuser. For instance, connected cars co-owned or leased by both the abuser and survivor may allow the abuser to track the survivor using the car's location-based services. One news report suggests that survivors may have only limited ability to remove an abuser from their vehicle's data services and that connected car manufacturers may hesitate to act or abstain from acting altogether when the abuser has an ownership interest in the connected car with the survivor.

7. FCC Letters and Responses. In response to this public policy concern and Congress' directive in the SCA, in January 2024, Chairwoman Rosenworcel sent a series of letters to wireless service providers and to auto manufacturers to seek information and ask for their help in protecting domestic violence survivors. The letters to the wireless providers asked about existing connected car services, treatment of geolocation data from these services, current compliance with the SCA, and whether (and if so, how) the companies provide connected car services to consumers who are not subscribers to the company's wireless services. The letters to the auto manufacturers asked the companies for details about the connected car services they offer, any existing plans to support survivors' efforts to disconnect from abusers, and how the manufacturers handle consumers' geolocation data.

8. In their responses, as discussed further below, the wireless service providers noted their shared concerns about safeguarding survivors of domestic violence and affirmed that they are taking steps to implement the SCA. The auto manufacturers provided an overview of the functions and privacy features of their connected car services.

III. Discussion

9. We seek comment generally on the ways that connected car services are used and steps the Commission can take to help protect survivors of domestic violence from misuse of such services. First, based on the responses to the information requests sent by the Chairwoman, we describe and seek comment on our understanding of wireless service providers' and auto manufacturers' connected car service offerings. We also seek additional information on any other connected car services that are available. Next, we seek comment on whether changes to the Commission's rules implementing the SCA are necessary to address the impact of connected car services on domestic violence survivors. Finally, we seek comment on other actions we can take to help protect survivors using connected car services. In that regard, we seek comment on other potential sources of authority for Commission action and on how to encourage connected car service providers to take proactive steps to protect survivors against misuse of these services.

10. The Connected Car Services Available Today. The responses to Chairwoman Rosenworcel's information requests show that wireless service providers and auto manufacturers currently provide a range of connected car services in the marketplace. We seek additional information about how these services are offered to consumers.

11. One method for offering connected car services is through a wireless service provider. The wireless service providers' responses to the Chairwoman's information requests suggest that their offerings generally consist either of (1) services offered directly to consumers or (2) wholesale connectivity services offered to auto manufacturers or to the manufacturer's contracted third-party telematics service provider. For services offered directly to consumers, wireless service providers may enter into an agreement with a subscriber to add a line with an associated phone number to their wireless service contract for the connected car service. Subscribers typically access these services using an app and, in some cases, a separate device that plugs into their vehicle's control panel. The direct-to-subscriber services offer a range of features such as roadside assistance, navigation, and notification of required vehicle maintenance. Wireless service provider responses to the information requests suggest that some of these services also include the ability to track the vehicle's location remotely. Some wireless service providers also offer in-vehicle Wi-Fi services to consumers. When wireless service providers offer wholesale connectivity services, the providers may not have a direct contractual relationship with individual vehicle owners or lessees. Rather, they may contract directly with auto manufacturers via wholesale agreements or with other third parties to provide connectivity for a fleet of vehicles. We seek comment on our understanding of the connected car services offered by wireless service providers, and we seek additional information on any other features and capabilities not covered in this paragraph.

12. With respect to auto manufacturers' connected car services, the responses suggest that, when purchasing service from an auto manufacturer, the owner or lessee of a car typically enters into a service agreement with the auto manufacturer for connected car services. A car owner typically accesses connected services on their mobile device through a manufacturer-provided app. Many auto manufacturers obtain the network connectivity to power these services by entering into contracts to access the wireless networks of wireless service providers or other third parties. The connected car services provided by auto manufacturers include a range of features such as the ability to start the vehicle or control the vehicle's climate control system remotely. Some services also include the ability to track the vehicle's location remotely. We seek comment on our understanding of the connected car services offered by auto manufacturers, and we seek additional information on any other features and capabilities not covered in this paragraph.

13. It appears that consumers—including domestic violence survivors—have varying levels of control of the data that connected car services generate, including remote vehicle location data. Responses to the information requests suggest that while some of the wireless service providers and auto manufacturers enable a survivor to turn off remote location tracking if the survivor becomes aware of being tracked by an abuser, not all companies currently provide that ability. For some connected car services, it appears that only a vehicle owner or lessee may disable tracking features on the connected car app absent a court order or other legal process. Some of the responses to the information requests indicate that the provider's connected car service gives notice to a driver that the car's location is being tracked. Other responses do not indicate whether the service offers this function. The responses to the information requests further indicate that information collected through connected car services may be shared with third parties in accordance with connected car service agreements. We seek further information on whether and how users, including both owners or lessees and nonowners or lessees, control access to their data for connected car services that are available today and on what information users receive about the tracking features of these services. To what extent do auto manufacturers and wireless service providers enable—or plan to enable—access controls for data associated with connected car services for owners and lessees and other vehicle users?

14. Application of the SCA and the FCC's Implementing Rules to Connected Car Services. We seek comment on what, if any, changes to our rules implementing the SCA could help to address the impact of connected car services on domestic violence survivors. A “shared mobile service contract” is defined under the SCA rules to mean “a mobile service contract for an account that includes not less than two lines of service and does not include enterprise services offered by a covered provider. “Lines of service,” under the SCA rules, are those “associated with a telephone number” and include “all of the mobile services associated with that line under the shared mobile service contract, regardless of classification, including voice, text, and data services.” The SCA Report and Order makes clear that a “line” can apply to devices, “such as tablets with no mobile capability, which only nominally have a line associated with a customer account,” noting, for example, that “a survivor may want to separate a line for a device in order to protect his or her location information from an abuser with access to the shared mobile account information.”

15. Line separation requirements apply, under the SCA rules, to “covered providers.” “Covered providers” are defined as providers of “a private mobile service or commercial mobile service, as those terms are defined in 47 U.S.C. 332(d).” “Covered provider” includes providers of mobile broadband-only or mobile text service that do not also offer mobile voice service, if such provider assigns a telephone number to a device. “Covered provider” also includes facilities-based mobile network operators and resellers/mobile virtual network operators (MVNOs).

16. Where the defined elements in the Commission's SCA rules are present, the obligations associated with line separations apply. The FCC's rules implementing the SCA thus could apply to connected car services that involve a “shared mobile service contract” offered by a “covered provider” as defined under the rules and would require a provider to respond to a valid request for a line separation. We seek comment on this position and the extent to which the FCC's existing SCA rules do not fully address concerns regarding the impact of connected car services on domestic violence survivors and whether changes to these rules would enable the Commission to better address these concerns.

17. As stated above, the definition of “covered provider” under the SCA rules includes providers both of commercial mobile service and private mobile service and also includes facilities-based mobile network operators and resellers/MVNOs. In the context of connected cars, wireless providers offer services directly to consumers and may enter into an agreement with a subscriber to add a line to their mobile service contract for the connected car service. Wireless providers also provide wholesale service to auto manufacturers, which in turn provide connectivity for consumers as a value-added service. Auto manufacturers enter into service agreements with owners and lessees of vehicles to provide them connected car services using, in many cases, the connectivity from the networks of wireless service providers. We view the broad scope of the “covered provider” definition as potentially including the connected car services that wireless service providers offer directly to consumers, and we highlight this view to assist efforts to implement the Commission's recently adopted rules under the SCA. Does the definition also include the service that auto manufacturers purchase wholesale and in turn offer to consumers? Does the definition of “covered provider” in the SCA rules need to be modified to account for additional use cases in order to better protect survivors, and if so, what revisions do commenters recommend? Would doing so be consistent with the policy objectives and authority of the SCA?

18. To what extent are auto manufacturers reselling mobile connectivity when providing connected car services? In clarifying that the SCA rules extend to MVNOs, the Commission noted in the SCA Report and Order that, for some MVNOs, “the underlying facilities-based provider may have control over some parts of, or all of, the systems and infrastructure necessary to effectuate line separations.” The Commission clarified that, in those cases, “the MVNO should fulfill its obligations under the SCA and our rules through its contractual relationship with the underlying facilities-based provider, and may satisfy its obligations by utilizing the same procedures and processes the facilities-based provider makes available to its own customers.” To the extent an MVNO controls any facilities or systems, such as customer care or billing, the Commission found that “the obligations imposed by the SCA fall entirely upon the MVNO and not the underlying facilities-based provider.” We seek comment on how these findings may apply in the context of connected car services offered by auto manufacturers. Do auto manufacturers have control over any systems or infrastructure necessary to effectuate a line separation under the SCA rules? Are these systems entirely controlled by the wireless service providers who provide the connectivity for the services? Are they controlled or operated jointly?

19. Under the SCA, “shared mobile service contract” is defined to mean “a mobile service contract for an account that includes not less than 2 consumers.” The rules implementing the SCA provide that a “shared mobile service contract” means “a mobile service contract for an account that includes not less than two lines of service” and define “lines of service” to mean those lines associated with a telephone number. Connected car services generally involve a “shared mobile service contract” when the service is offered by a wireless service provider as an add-on to an existing wireless service agreement. Do connected car services offered by auto manufacturers also involve multiple lines of service? For example, if someone owns multiple cars from the same manufacturer and each of those cars has connected car service, would there be a “shared mobile service contract” for those services? Do connected car services use “lines of service” as contemplated under the SCA framework? The responses to the information requests suggest that some connected car services associate phone numbers with specific vehicles. Is that association typical for the majority of connected car services? If there are some connected car services that do not involve “shared mobile service contracts” and “lines of service” as currently defined by the Commission, are there ways that the Commission can revise these definitions, consistent with our authority under the SCA, to expand their scope and apply to connected car services? Would doing so be consistent with the policy objectives of and authority granted by the SCA? For example, to the extent connected car services are not currently encompassed in the Commission's definition of “shared mobile service contract” under our rules, does the language in the SCA definition that refers to “an account that includes not less than 2 consumers” suggest that we could extend the definition to a shared account (e.g., co-owners or co-lessees of a vehicle) for connected car services?

20. To the extent that connected car services are—or could be—covered by the SCA, how would line separation requirements apply? Are there operational or technical issues that would affect implementation, including any unique challenges for small entities? For example, how would vehicle ownership affect implementation? Are vehicles typically owned on a shared basis by both members of a couple? We expect that, if a vehicle is under the sole ownership of an abuser, but is used by a survivor, the SCA rules would require separation of the connected car service line that is associated with that vehicle through the abuser's account. In these cases, what evidence and standards of proof would be needed from a survivor to separate the connected car service line? Currently, under the Commission's SCA rules, survivors seeking a line separation are required to submit documentation that verifies that an individual who uses a line under the shared mobile service contract has committed or allegedly committed a covered act against the survivor or an individual in the survivor's care. Would there be any reason to modify these evidentiary requirements for connected car services?

21. Other Actions to Protect Survivors Using Connected Car Services. Outside of the SCA, we seek comment on other authority the Commission could use and other steps the Commission could take to help prevent the misuse of connected car services. To the extent that connected car services are not covered by the SCA and Commission rules, are there other sources of authority the Commission could use to help address the misuse of these services? For example, could the Commission use its authority under other Title III provisions to adopt requirements that apply to the connected car services offered by wireless service providers and/or auto manufacturers?

22. Outside of formal Commission action, what steps can providers of connected car services take to prevent the misuse of connected car services in domestic violence situations? How can the Commission encourage providers to take such steps? What changes to the design and functionality of these services are needed to help protect survivors of domestic violence? In particular, we seek comment on what steps providers of connected car services could take to make it easier for survivors to turn off remote location tracking and other services that might enable abusers to track, control, or revictimize survivors. For example, for some connected car services it appears that only a vehicle owner or lessee may disable tracking features on the connected car app absent a court order. Should manufacturers permit their apps to allow multiple account holders so that survivors using a co-owned vehicle may access the app to turn off tracking features? How could companies change their policies to better respond to domestic violence situations? What other users or sets of users should be permitted to disable such features? Are there any risks that would arise if companies were to allow users other than the owner or lessee to disable any connected car services?

23. What are companies' policies, and how can they best ensure that survivors are protected in instances when survivors request, and companies make, changes to location tracking or other connected services? Where companies do permit survivors who are not the primary account holder to request changes (such as turning off location data for a connected car service), do companies automatically send notices to primary account holders? If so, do companies need to notify a primary account holder (who may be an abuser) about such changes? Should companies set a uniform waiting period between when the company receives a request from a survivor and when the company notifies a primary account holder? Could companies delay notice to primary account holders until the company has approved and processed such requests, or do the companies need to communicate with primary account holders prior to making changes?

24. Are there other ways to allow vehicle tracking for legitimate safety reasons (e.g., driver safety or vehicle theft recovery) without making the tracking features accessible by abusers? Are there changes that automakers could make to alert unsuspecting survivors about tracking services that may be active in their vehicles? What other steps should auto manufacturers and wireless service providers consider to prevent the misuse of connected car services? Should they provide consumers with more information about the connectivity features, privacy controls, and other settings available in connected car services and apps? Should they develop more specific policies to address the misuse of connected car services in domestic violence situations? How can the Commission encourage auto manufacturers and wireless service providers to collaborate proactively with stakeholders to protect against misuse of connected car services?

25. Promoting Digital Equity and Inclusion. As noted earlier, the effects of domestic violence disproportionately impact women as well as people of color, LGBTQ+ individuals, and other individuals who identify with historically marginalized demographics. The Commission, as part of its continuing effort to advance digital equity for all, including people of color, persons with disabilities, persons who live in rural or Tribal areas, women, LGBTQ+ persons, and others who are or have been historically underserved, marginalized, or adversely affected by persistent poverty or inequality, invites comment on any equity-related considerations and benefits (if any) that may be associated with the proposals and issues discussed herein. Specifically, we seek comment on how our proposals may promote or inhibit advances in diversity, equity, inclusion, and accessibility, as well the scope of the Commission's relevant legal authority.

IV. Initial Regulatory Flexibility Analysis

26. As required by the Regulatory Flexibility Act of 1980, as amended, (RFA), the Federal Communications Commission (Commission) has prepared this Initial Regulatory Flexibility Analysis (IRFA) of the possible significant economic impact on a substantial number of small entities by the policies and rules proposed in the Further Notice of Proposed Rulemaking (FNPRM). The Commission requests written public comments on this IRFA. Comments must be identified as responses to the IRFA and must be filed by the deadlines for comments provided on the first page of the FNPRM. The Commission will send a copy of the Notice, including this IRFA, to the Chief Counsel for Advocacy of the Small Business Administration (SBA). In addition, the FNPRM and IRFA (or summaries thereof) will be published in the Federal Register.

A. Need for, and Objectives of, the Proposed Rules

27. Connectivity services in modern vehicles such as hands-free communication or find-your-car are intended to function as convenient tools for passengers and drivers. However, in the hands of an abuser, those same services can be used to stalk, harass, and intimidate survivors of domestic violence. In the FNPRM, the Commission seeks comment generally from small and other entities on the ways that connected car services are used and what further action the Commission can take to help protect domestic violence survivors from misuse of these services. First, based on the responses the Commission received to the information requests sent by the Chairwoman, the FNPRM describes and seeks comment on the Commission's understanding of wireless-service providers' and auto manufacturers' connected car service offerings. The FNPRM also seeks additional information on any other connected car services that are available in today's marketplace. Next, the FNPRM seeks comment on whether changes to the Commission's rules implementing the Safe Connections Act (SCA) are necessary to address the impact of connected car services on domestic violence survivors. Finally, the FNPRM seeks comment on other actions the Commission can take to help protect survivors using connected car services, other potential sources of authority for Commission action, and how best to encourage connected car service providers to take proactive steps to protect survivors against abuse of these services.

B. Legal Basis

28. The proposed action is authorized pursuant to sections 1, 4(i), 4(j), 254, 345, and 403 of the Communications Act of 1934, as amended, 47 U.S.C. §§ 151, 154(i), 154(j), 254, 345, and 403; section 5(b) of the Safe Connections Act of 2022, Public Law 117-223, 136 Stat 2280; and section 904 of Division N, Title IX of the Consolidated Appropriations Act, 2021, Public Law 116-260, 134 Stat. 1182, as amended by the Infrastructure Investment and Jobs Act, Public Law 117-58, 135 Stat. 429.

C. Description and Estimate of the Number of Small Entities to Which the Proposed Rules Would Apply

29. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act. A “small business concern” is one which: (1) is independently owned and operated; (2) is not dominant in its field of operation; and (3) satisfies any additional criteria established by the SBA.

30. Small Businesses, Small Organizations, Small Governmental Jurisdictions. Our actions, over time, may affect small entities that are not easily categorized at present. We therefore describe, at the outset, three broad groups of small entities that could be directly affected herein. First, while there are industry specific size standards for small businesses that are used in the regulatory flexibility analysis, according to data from the Small Business Administration's (SBA) Office of Advocacy, in general a small business is an independent business having fewer than 500 employees. These types of small businesses represent 99.9% of all businesses in the United States, which translates to 33.2 million businesses.

31. Next, the type of small entity described as a “small organization” is generally “any not-for-profit enterprise which is independently owned and operated and is not dominant in its field.” The Internal Revenue Service (IRS) uses a revenue benchmark of $50,000 or less to delineate its annual electronic filing requirements for small exempt organizations. Nationwide, for tax year 2020, there were approximately 447,689 small exempt organizations in the U.S. reporting revenues of $50,000 or less according to the registration and tax data for exempt organizations available from the IRS.

32. Finally, the small entity described as a “small governmental jurisdiction” is defined generally as “governments of cities, counties, towns, townships, villages, school districts, or special districts, with a population of less than fifty thousand.” U.S. Census Bureau data from the 2017 Census of Governments indicate there were 90,075 local governmental jurisdictions consisting of general purpose governments and special purpose governments in the United States. Of this number, there were 36,931 general purpose governments (county, municipal, and town or township) with populations of less than 50,000 and 12,040 special purpose governments—independent school districts with enrollment populations of less than 50,000. Accordingly, based on the 2017 U.S. Census of Governments data, we estimate that at least 48,971 entities fall into the category of “small governmental jurisdictions.”

33. Wireless Telecommunications Carriers (except Satellite). This industry comprises establishments engaged in operating and maintaining switching and transmission facilities to provide communications via the airwaves. Establishments in this industry have spectrum licenses and provide services using that spectrum, such as cellular services, paging services, wireless internet access, and wireless video services. The SBA size standard for this industry classifies a business as small if it has 1,500 or fewer employees. U.S. Census Bureau data for 2017 show that there were 2,893 firms in this industry that operated for the entire year. Of that number, 2,837 firms employed fewer than 250 employees. Additionally, based on Commission data in the 2022 Universal Service Monitoring Report, as of December 31, 2021, there were 594 providers that reported they were engaged in the provision of wireless services. Of these providers, the Commission estimates that 511 providers have 1,500 or fewer employees. Consequently, using the SBA's small business size standard, most of these providers can be considered small entities.

34. Satellite Telecommunications. This industry comprises firms “primarily engaged in providing telecommunications services to other establishments in the telecommunications and broadcasting industries by forwarding and receiving communications signals via a system of satellites or reselling satellite telecommunications.” Satellite telecommunications service providers include satellite and earth station operators. The SBA small business size standard for this industry classifies a business with $38.5 million or less in annual receipts as small. U.S. Census Bureau data for 2017 show that 275 firms in this industry operated for the entire year. Of this number, 242 firms had revenue of less than $25 million. Additionally, based on Commission data in the 2022 Universal Service Monitoring Report, as of December 31, 2021, there were 65 providers that reported they were engaged in the provision of satellite telecommunications services. Of these providers, the Commission estimates that approximately 42 providers have 1,500 or fewer employees. Consequently, using the SBA's small business size standard, a little more than half of these providers can be considered small entities.

35. Wireless Broadband Internet Access Service Providers (Wireless ISPs or WISPs). Providers of wireless broadband internet access service include fixed and mobile wireless providers. The Commission defines a WISP as “[a] company that provides end-users with wireless access to the internet[.]” Wireless service that terminates at an end user location or mobile device and enables the end user to receive information from and/or send information to the internet at information transfer rates exceeding 200 kilobits per second (kbps) in at least one direction is classified as a broadband connection under the Commission's rules. Neither the SBA nor the Commission have developed a size standard specifically applicable to Wireless Broadband Internet Access Service Providers. The closest applicable industry with an SBA small business size standard is Wireless Telecommunications Carriers (except Satellite). The SBA size standard for this industry classifies a business as small if it has 1,500 or fewer employees. U.S. Census Bureau data for 2017 show that there were 2,893 firms in this industry that operated for the entire year. Of that number, 2,837 firms employed fewer than 250 employees.

36. Additionally, according to Commission data on internet access services as of June 30, 2019, nationwide there were approximately 1,237 fixed wireless and 70 mobile wireless providers of connections over 200 kbps in at least one direction. The Commission does not collect data on the number of employees for providers of these services, therefore, at this time we are not able to estimate the number of providers that would qualify as small under the SBA's small business size standard. However, based on data in the Commission's 2022 Communications Marketplace Report on the small number of large mobile wireless nationwide and regional facilities-based providers, the dozens of small regional facilities-based providers and the number of wireless mobile virtual network providers in general, as well as on terrestrial fixed wireless broadband providers in general, we believe that the majority of wireless internet access service providers can be considered small entities.

37. Local Resellers. Neither the Commission nor the SBA have developed a small business size standard specifically for Local Resellers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2022 Universal Service Monitoring Report, as of December 31, 2021, there were 207 providers that reported they were engaged in the provision of local resale services. Of these providers, the Commission estimates that 202 providers have 1,500 or fewer employees. Consequently, using the SBA's small business size standard, most of these providers can be considered small entities.

38. Toll Resellers. Neither the Commission nor the SBA have developed a small business size standard specifically for Toll Resellers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2022 Universal Service Monitoring Report, as of December 31, 2021, there were 457 providers that reported they were engaged in the provision of toll services. Of these providers, the Commission estimates that 438 providers have 1,500 or fewer employees. Consequently, using the SBA's small business size standard, most of these providers can be considered small entities.

39. All Other Telecommunications. This industry is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Providers of internet services (e.g., dial-up ISPs) or Voice over Internet Protocol (VoIP) services, via client-supplied telecommunications connections are also included in this industry. The SBA small business size standard for this industry classifies firms with annual receipts of $35 million or less as small. U.S. Census Bureau data for 2017 show that there were 1,079 firms in this industry that operated for the entire year. Of those firms, 1,039 had revenue of less than $25 million. Based on this data, the Commission estimates that the majority of “All Other Telecommunications” firms can be considered small.

40. Automobile Manufacturing. This U.S. industry comprises establishments primarily engaged in (1) manufacturing complete automobiles (i.e., body and chassis or unibody) or (2) manufacturing automobile chassis only. The SBA small business size standard for this industry classifies firms having 1,500 employees or less as small. 2017 U.S. Census Bureau data indicate that 157 firms operated in this industry for the entire year. Of this number, 145 firms employed fewer than 100 employees. Therefore, the Commission estimates that the majority of manufacturers in this industry are small entities.

D. Description of Projected Reporting, Recordkeeping, and Other Compliance Requirements for Small Entities

41. The FNPRM seeks comment on the ways that connected car services are used and steps the Commission can take to help protect survivors of domestic violence from misuse of these services. The Commission states that the FCC's rules implementing the SCA apply to connected car services that involve a “shared mobile service contract” offered by a “covered provider” as defined under the rules and would require a provider to respond to a valid request for a line separation. The FNPRM seeks comment on the extent to which the FCC's existing SCA rules do not fully address concerns regarding the impact of connected car services on domestic violence survivors and whether changes to these rules would enable the Commission to better address these concerns. Outside of the SCA, the FNPRM seeks comment on other sources of authority the Commission can use to help address the misuse of connected car services.

42. While the FNPRM does not specifically propose new rules, the Commission does discuss application of the existing SCA rules in a new context and to potentially additional entities. The Commission seeks comment from small and other entities on whether any changes to the SCA rules are necessary. If the Commission ultimately decides to make any changes to the SCA rules in the connected car context, this could potentially result in additional costs, new or modified recordkeeping, reporting, or other compliance requirements for small and other providers. For example, the existing SCA rules require covered providers, within two business days of receiving a completed request from a survivor, to (1) separate the line of the survivor, and the line of any individual in the care of the survivor, from a shared mobile service contract, or (2) separate the line of the abuser from a shared mobile service contract. We seek comment on the impact to compliance for small and other entities as a result of rules reflecting a broader application of the SCA.

43. At present, the record does not include a detailed cost/benefit analysis that would allow us to quantify the costs of compliance for small entities, including whether it will be necessary for small entities to hire professionals to comply with any rules that may be adopted. Small and other entities are encouraged to quantify the costs and benefits of any reporting, recordkeeping, or compliance requirement that may be established in this proceeding. The Commission expects the comments it receives on its proposals, and the matters discussed in the FNPRM to include information addressing costs, benefits, and other matters of concern for small entities, which should help the Commission identify and better evaluate compliance costs and relevant issues for small entities before adopting final rules.

E. Steps Taken To Minimize the Significant Economic Impact on Small Entities, and Significant Alternatives Considered

44. The RFA requires an agency to describe any significant, specifically small business, alternatives that it has considered in reaching its proposed approach, which may include the following four alternatives (among others): (1) the establishment of differing compliance or reporting requirements or timetables that take into account the resources available to small entities; (2) the clarification, consolidation, or simplification of compliance and reporting requirements under the rules for such small entities; (3) the use of performance rather than design standards; and (4) an exemption from coverage of the rule, or any part thereof, for such small entities.

45. The FNPRM considers alternative approaches for addressing the misuse of connected car services. It discusses application of the existing SCA rules in the connected car services context and seeks comment on whether any changes to the SCA rules are necessary to address these services. To the extent that connected car services are or could be covered by the SCA, the FNPRM seeks comment on how line separation requirements would apply. The FNPRM also asks whether there are operational or technical issues that would affect implementation, including for small entity providers. The FNPRM also seeks comment on an alternative, non-regulatory approach that would minimize potential burden and provide additional flexibility for connected car providers, including any small entity providers. The FNPRM seeks comment on how the Commission can encourage connected car service providers to voluntarily take steps to prevent the misuse of connected car services in domestic violence situations. In particular, the FNPRM seeks comment on what steps providers of connected car services could take to make it easier for survivors to turn off remote location tracking and other services that might enable abusers to track, control, or revictimize domestic violence survivors.

46. Additionally, to assist with the Commission's evaluation of the economic impact on small entities that may result from the actions and alternatives that have been proposed in this proceeding, the FNPRM seeks alternative proposals and requests information on the potential costs of such alternatives. The Commission expects to consider more fully the economic impact on small entities following its review of comments filed in response to the FNPRM, including costs and benefits information. Alternative proposals and approaches from commenters could help the Commission further minimize the economic impact on small entities. The Commission's evaluation of the comments filed in this proceeding will shape the final conclusions it reaches, the final alternatives it considers, and the actions it ultimately takes in this proceeding to minimize any significant economic impact that may occur on small entities from the final rules that are ultimately adopted.

F. Federal Rules That May Duplicate, Overlap, or Conflict With the Proposed Rules

47. None.

V. Ordering Clauses

48. Accordingly, it is ordered, pursuant to the authority contained in sections 1, 4(i), 4(j), 254, 345, and 403 of the Communications Act of 1934, as amended; 47 U.S.C. §§ 151, 154(i), 154(j), 254, 345, and 403; section 5(b) of the Safe Connections Act of 2022, Public Law 117-223, 136 Stat 2280; and section 904 of Division N, Title IX of the Consolidated Appropriations Act, 2021, Public Law 116-260, 134 Stat. 1182, as amended by the Infrastructure Investment and Jobs Act, Public Law 117-58, 135 Stat. 429; that this FNPRM of Proposed Rulemaking is adopted.

49. It is further ordered that, pursuant to applicable procedures set forth in sections 1.415 and 1.419 of the Commission's Rules, 47 CFR 1.415, 1.419, interested parties may file comments on the FNPRM of Proposed Rulemaking on or before 30 days after publication in the Federal Register, and reply comments on or before 60 days after publication in the Federal Register.

50. It is further ordered that the Commission's Office of the Secretary shall send a copy of this FNPRM of Proposed Rulemaking, including the Initial Regulatory Flexibility Analysis, to the Chief Counsel for Advocacy of the Small Business Administration.

Federal Communications Commission.
Marlene Dortch,
Secretary, Office of the Secretary.

[FR Doc. 2024-08642 Filed 4-22-24; 8:45 am]

BILLING CODE 6712-01-P